DEPARTMENT OF HEALTH AND HUMAN SERVICES

Administration for Children and Families

Proposed Information Collection Activity; Sexual Risk Avoidance Education National Evaluation: Nationwide Study of the National Descriptive Study (New Collection)

AGENCY: Office of Planning, Research and Evaluation; Administration for Children and Families; HHS.

ACTION: Request for public comment.

SUMMARY: The Office of Planning, Research and Evaluation (OPRE), Administration for Children and Families (ACF), U.S. Department of Health and Human Services (HHS), proposes survey and focus group data collection activities for the Sexual Risk Avoidance Education National Evaluation (SRAENE) Nationwide Study (NWS) of the National Descriptive Study.

DATES: Comments due within 60 days of publication. In compliance with the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION: Description: OPRE/ACF/HHS proposes to conduct the NWS, a sub-study under the National Descriptive Study (NDS) of the SRAENE, to learn about Sexual Risk Avoidance Education (SRAE) program implementation experiences and outcomes of the SRAE grant program. The NWS builds on the Early Implementation Study, the first sub-study of the NDS, which was designed to tell the story about SRAE grant program plans (OMB Control #0970-0530). The NWS, which supports Congress's reauthorization in February 2018 of title V, section 510 of the Social Security Act (Pub. L. 115-123) and extended by the Coronavirus Aid, Relief, and Economic Security (CARES) ACT of 2020 (Pub. L. 116-136), will use a mixed-methods approach of surveys and focus groups to tell the story of the SRAE grant program, collecting detailed information on grantee program implementation experiences from grant recipients, SRAE program providers and facilitators, and youth program recipients. The NWS will also make use of extant data from grant-recipient performance measures on program outputs and outcomes. Combined with data on program implementation, the NWS will examine associations between implementation, outputs, and outcomes. The survey and focus group data are key to fully understanding program implementation experiences from all levels that bring the SRAE programs to youth-from grant administrators to program supervisors to the facilitators who interact directly with the youth themselves.

The study is being undertaken by ACF and its contractor Mathematica. The study research questions driving the need for data collection are as follows:

1. What are grant recipients' and providers' experiences with delivering SRAE curricular content? What are youth's experiences with receiving the SRAE curricular content?

2. How did grant recipients and providers interpret, understand, and address the A to F topics in the SRAE legislation?

3. Are some features of implementation more strongly associated with youth outcomes than others?

4. What provider characteristics are associated with a greater number of youth served and with youth outcomes?

To support these efforts, ACF proposes the following data collection activities: (1) A web-based survey of all grant recipient Directors who are not also providers, (2) a web-based survey of all SRAE program providers, (3) a web-based survey of all SRAE program facilitators, and (4) in-person (or virtual if necessary) focus groups with youth recipients of SRAE programming across five geographic regions of the United States.

Respondents: Respondents to the surveys will be SRAE program grant Directors, SRAE program providers, and SRAE program facilitators. Focus group participants will be youth recipients of SRAE programming. The focus group participants will be recruited from middle and high school across five U.S. Geographic regions: West, Midwest, Southwest, Southeast, and Northeast.

Annual Burden Estimates
Instrument | Number of respondents (total over request period) | Number of responses per respondent (total over request period) | Avg. burden per response (in hours) | Total/annual burden (in hours)
(1) NWS Grantee Survey | 40 | 1 | .17 | 7
(2) NWS Provider Survey | 500 | 1 | .75 | 375
(3) NWS Facilitator Survey | 1,600 | 1 | .5 | 800
(4)SRAE Program Youth Focus Group Discussion Guide | 200 | 1 | .75 | 150

Estimated Total Annual Burden Hours: 1,332.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: The Title V Competitive SRAE Program was authorized and funded by section 510 of the Social Security Act (42 U.S.C. 710), as amended by section 50502 of the Bipartisan Budget Act of 2018 (Pub. L. 115-123) and extended by the CARES Act of 2020 (Pub. L. 116-136).

See https://www.ssa.gov/OP_Home/ssact/title05/0510.htm.

Mary B. Jones,
ACF/OPRE Certifying Officer.

[FR Doc. 2022-11364 Filed 5-25-22; 8:45 am]

BILLING CODE 4184-83-P